DEPARTMENT OF THE INTERIOR

Fish and Wildlife Service

[FWS-R9-IA-2011-N117; 96300-1671-0000-P5]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit number | Applicant | Receipt of application Federal Register notice | Permit issuance date
37678A | David Phillips | 76 FR 20705; April 13, 2011 | May 19, 2011.
37443A. | Metro Richmond Zoo | 76 FR 18239; April 1, 2011 | May 23, 2011.
31183A | Zoological Society of San Diego | 76 FR 2408; January 13, 2011 | March 10, 2011.
27787A | Virginia Aquarium & Marine Science Center | 76 FR 2408; January 13, 2011 | February 15, 2011.
26030A | Drexel University, Dept. of Biology | 75 FR 69701; November 15, 2010 | February 25, 2011.
22077A | Texas A&M University, Schubot Exotic Bird Health Center | 75 FR 69701; November 15, 2010 | March 29, 2011.
008519 | Zoo Atlanta | 75 FR 82409; December 30, 2010 | March 11, 2011.
37370A | Samuel Monarch | 76 FR 18239, April 1, 2011 | May 24, 2011.
36490A | Roger Jones | 76 FR 18239, April 1, 2011 | May 24, 2011

Marine Mammals
Permit number | Applicant | Receipt of application Federal Register notice | Permit issuance date
078744 | Texas A&M University, Dr. Randall Davis | 76 FR 2408; January 13, 2011 | May 19, 2011.

Availability of Documents

Documents and other information submitted with these applications are available for review, subject to the requirements of the Privacy Act and Freedom of Information Act, by any party who submits a written request for a copy of such documents to:

Brenda Tapia,
Program Analyst/Data Administrator, Branch of Permits, Division of Management Authority.

[FR Doc. 2011-13805 Filed 6-2-11; 8:45 am]

BILLING CODE 4310-55-P